DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign in.

FOR FURTHER INFORMATION CONTACT: Roslyn B. Fontaine, Office of Standards, Regulations and Variances at 202-693-9475 (Voice), fontaine.roslyn@dol.gov (Email), or 202-693-9441 (Telefax), or Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2010-036-C.

FR Notice: 75 FR 75499 (12/3/2010).

Petitioner: Sequoia Energy, LLC, P.O. Box 838, Middlesboro, Kentucky 40965.

Mine: Sequoia Preparation Facility, MSHA I.D. No. 15-12428, located in Harlan County, Kentucky.

Regulation Affected: 30 CFR 77.214 (Refuse piles; general).

• Docket Number: M-2011-004-C.

FR Notice: 76 FR 22153 (4/20/2011).

Petitioner: AMFIRE Mining Company, LLC, One Energy Place, Latrobe, Pennsylvania 15650.

Mine: Barrett Mine, MSHA I.D. No. 36-09342, located in Indiana County, Pennsylvania.

Regulation Affected: 30 CFR 75.503 (Permissible electric face equipment; maintenance) and 30 CFR 18.35(a)(5)(i) (Portable (trailing) cables and cords).

• Docket Number: M-2011-005-C.

FR Notice: 76 FR 22153 (4/20/2011).

Petitioner: AMFIRE Mining Company, LLC, One Energy Place, Latrobe, Pennsylvania 15650.

Mine: Gillhouser Run Mine, MSHA I.D. No. 36-09033, located in Indiana County, Pennsylvania.

Regulation Affected: 30 CFR 75.503 (Permissible electric face equipment; maintenance) and 30 CFR 18.35(a)(5)(i) (Portable (trailing) cables and cords).

• Docket Number: M-2011-018-C.

FR Notice: 76 FR 37835 (6/28/2011).

Petitioner: Dominion Coal Corporation, P.O. Box 70, Vansant, Virginia 24656.

Mine: Mine No. 36, MSHA I.D. No. 44-06759, located in Buchanan County, Virginia.

Regulation Affected: 30 CFR 75.1700 (Oil and gas wells).

• Docket Number: M-2011-020-C.

FR Notice: 76 FR 37833 (6/28/2011).

Petitioner: Luminant Mining Company, 500 N Akard Street, Dallas, Texas 75201.

Mines: Bremond Strip Mine, MSHA I.D. No. 41-02788, located in Robertson County, Texas; Three Oaks Strip Mine, MSHA I.D. No. 41-04085, located in Lee County, Texas; Leesburg Strip Mine, MSHA I.D. No. 41-04444, located in Titus County, Texas; Kosse Strip Mine, MSHA I.D. No. 41-04586, located in Limestone County, Texas; and Turlington Strip Mine, MSHA I.D. No. 41-04802, located in Freestone County, Texas;

Regulation Affected: 30 CFR 77.803 (Fail safe ground check circuits on high-voltage resistance grounded systems).

• Docket Number: M-2011-021-C.

FR Notice: 76 FR 37834 (6/28/2011).

Petitioner: Buckskin Mining Company (Previously Triton Coal Company), P.O. Box 3027, Gillette, Wyoming 87217-3027.

Mine: Buckskin Mine, MSHA I.D. No. 48-01200, located in Campbell County, Wyoming.

Regulation Affected: 30 CFR 77.1607(u) (Loading and haulage equipment; operation).

• Docket Number: M-2011-025-C.

FR Notice: 76 FR 54803 (9/2/2011).

Petitioner: AMFIRE Mining Company, LLC, One Energy Place, Latrobe, Pennsylvania 15650.

Mine: Dora 8 Mine, MSHA I.D. No. 36-08704, located in Jefferson County, Pennsylvania.

Regulation Affected: 30 CFR 75.503 (Permissible electric equipment; maintenance) and 30 CFR 18.35(a)(5)(i) (Portable (trailing) cables and cords).

• Docket Number: M-2011-027-C.

FR Notice: 76 FR 54804 (9/2/2011).

Petitioner: Midland Trail Energy, LLC, 3301 Point Lick Drive, Charleston, West Virginia 25306.

Mine: Blue Creek No. 1 Deep Mine, MSHA I.D. No. 46-09297, located in Kanawha County, West Virginia.

Regulation Affected: 30 CFR 75.1700 (Oil and gas wells).

• Docket Number: M-2011-041-C.

FR Notice: 77 FR 811 (1/6/2012).

Petitioner: D & F Deep Mine, 15 Motter Drive, Pine Grove, Pennsylvania 17963.

Mine: Buck Drift #2 Mine, MSHA I.D. No. 36-09963, located in Schuylkill County, Pennsylvania.

Regulation Affected: 30 CFR 75.1200(d) & (i) (Mine map).

• Docket Number: M-2011-042-C.

FR Notice: 77 FR 811 (1/6/2012).

Petitioner: D & F Deep Mine, 15 Motter Drive, Pine Grove, Pennsylvania 17963.

Mine: Buck Drift #2 Mine, MSHA I.D. No. 36-099963, located in Schuylkill County, Pennsylvania.

Regulation Affected: 30 CFR 75.1202 and 75.1202-1(a) (Temporary notations, revisions and requirements).

• Docket Number: M-2011-043-C.

FR Notice: 77 FR 811 (1/6/2012).

Petitioner: D & F Deep Mine, 15 Motter Drive, Pine Grove, Pennsylvania 17963.

Mine: Buck Drift #2 Mine, MSHA I.D. No. 36-09963, located in Schuylkill County, Pennsylvania.

Regulation Affected: 30 CFR 75.1400 (Hoisting equipment; general).

• Docket Number: M-2012-004-C.

FR Notice: 77 FR 14439 (3/9/2012).

Petitioner: Little Buck Coal Company #2, 33 Pine Lane, Pine Grove, Pennsylvania 17963.

Mine: Little Buck Slope Mine, MSHA I.D. No. 36-09958, located in Schuylkill County, Pennsylvania.

Regulation Affected: 30 CFR 75.1200(d) and (i) (Mine maps).

• Docket Number: M-2012-005-C.

FR Notice: 77 FR 14439 (3/9/2012).

Petitioner: Little Buck Coal Company #2, 33 Pine Lane, Pine Grove, Pennsylvania 17963.

Mine: Little Buck Slope Mine, MSHA I.D. No. 36-09958, located in Schuylkill County, Pennsylvania.

Regulation Affected: 30 CFR 75.1202 and 75.1202-1(a) (Temporary notations, revisions and requirements).

• Docket Number: M-2012-006-C.

FR Notice: 77 FR 14439 (3/9/2012).

Petitioner: Little Buck Coal Company #2, 33 Pine Lane, Pine Grove, Pennsylvania 17963.

Mine: Little Buck Slope Mine, MSHA I.D. No. 36-09958, located in Schuylkill County, Pennsylvania.

Regulation Affected: 30 CFR 75.1400 (Hoisting equipment; general).

Dated: October 15, 2012.
George F. Triebsch,
Director, Office of Standards, Regulations and Variances.

[FR Doc. 2012-25658 Filed 10-17-12; 8:45 am]

BILLING CODE 4510-43-P